DEPARTMENT OF COMMERCE

National Oceanic and Atmospheric Administration

50 CFR Part 660

[Docket No. 001215358-0358-01; I.D. 101601A]

Fisheries off West Coast States and in the Western Pacific; Coastal Pelagic Species Fisheries; Reallocation of Pacific Sardine

AGENCY: National Marine Fisheries Service (NMFS), National Oceanic and Atmospheric Administration (NOAA), Commerce.

ACTION: Reallocation of Pacific Sardine.

SUMMARY: NMFS announces the reallocation of the remaining Pacific sardine harvest guideline in the exclusive economic zone off the Pacific coast. As of October 3, 2001, 72,306 metric tons (mt) of the 134,737 mt harvest guideline remains unharvested. The Coastal Pelagics Species Fishery Management Plan (FMP) requires that a review of the fishery be conducted 9 months after the beginning of the fishing season and any uncaught portion of the harvest guideline totaled and reallocated, with 50 percent allocated north and 50 percent allocated south of Pt. Piedras Blancas, CA; therefore, 36,153 mt is allocated to each area. The intended effect of this action is to ensure that a sufficient amount of the resource is available to all harvesters on the Pacific coast and to achieve optimum yield.

DATES: Effective October 26, 2001, through December 31, 2001, unless NMFS publishes a superseding document in the Federal Register.

FOR FURTHER INFORMATION CONTACT: James J. Morgan, Southwest Region, NMFS, 562-980-4036.

SUPPLEMENTARY INFORMATION: On December 27, 2000, NMFS published notice of a harvest guideline of 134,737 mt for Pacific sardine in the Federal Register (65 FR 81766) for the fishing season January 1, 2001, through December 31, 2001. The harvest guideline was allocated as specified in the FMP, that is, one-third (44,912 mt) for Subarea A, which is north of 35° 40' N. lat. (Pt. Piedras Blancas, California) to the Canadian border; and two-thirds (89,825 mt) for Subarea B, which is south of 35° 40' N. lat. to the Mexican border.

Section 5.2.2 of the FMP requires that a review of the fishery be conducted 9 months after the beginning of the fishing season and any uncaught portion of the harvest guideline totaled and divided equally between Subarea A and Subarea B. At its September 2001 meeting, the Pacific Fishery Management Council (Council) received a report on the sardine fishery from its Coastal Pelagic Species Management Team and heard statements about the harvest of Pacific sardine on the Pacific coast from representatives of California, Oregon, and Washington. Based on this testimony, the Council recommended that NMFS reallocate the remaining portion of the harvest guideline as specified in the FMP. Therefore, the 72,306 mt of the uncaught portion of the harvest guideline is reallocated in the following manner: 36,153 mt north of Pt. Piedras Blancas (Subarea A), and 36,153 mt south of Pt. Piedras Blancas (Subarea B).

Classification

This action is authorized by the FMP in accordance with 50 CFR 660.517 and is exempt from review under Executive Order 12866.

The Assistant Administrator for Fisheries, NOAA (AA) finds for good cause under 5 U.S.C. 553(b)(3)(B) that providing prior notice and an opportunity for public comment on this action is unnecessary and impracticable. It is unnecessary because redistribution of the harvest guideline in this proportion is a ministerial act required by the FMP. It is impracticable because affording prior notice and opportunity for public comment would preclude NMFS from quickly taking action to redistribute the sardine quotas in the north and south areas in order to prevent the quotas in these areas from being exceeded.

Because this rule provides a redistribution of a harvest guideline to meet the requirements of the FMP and does not require any participants in the fishery to take action or to come into compliance, the AA finds for good cause under 5 U.S.C. 553(d)(3) that delaying the effective date of this rule for 30 days is unnecessary.

Because prior notice and opportunity for public comment are not required for this action by 5 U.S.C. 553, or any other law, the analytical requirements of the Regulatory Flexibility Act, 5 U.S.C. 601 et seq., are not applicable.

Authority: 16 U.S.C. 1801 et seq.

Dated: October 19, 2001.
Bruce C. Morehead,
Acting Director,Office of Sustainable Fisheries, National Marine Fisheries Service.

[FR Doc. 01-26930 Filed 10-25-01; 8:45 am]

BILLING CODE 3510-22-S